DEPARTMENT OF TRANSPORTATION

Coast Guard

33 CFR Parts 100, 110, and 165

[CGD05-99-068]

RIN 2115-AA97, AA98, AE46, AE84

OPSAIL 2000, Port of Hampton Roads, VA

AGENCY: Coast Guard, DOT.

ACTION: Notice of proposed rulemaking.

SUMMARY: The Coast Guard proposes to establish temporary regulations in the Port of Hampton Roads, Virginia for OPSAIL 2000 activities. This action is necessary to provide for the safety of life on navigable waters before, during, and after OPSAIL 2000 events. This action will restrict vessel traffic in portions of Chesapeake Bay, Hampton Roads, and the James and Elizabeth Rivers.

DATES: Comments and related material must reach the Coast Guard on or before April 14, 2000.

ADDRESSES: You may mail comments and related material to the Port Operations Department (CGD05-99-068), Coast Guard Marine Safety Office Hampton Roads, 200 Granby Street, Norfolk, Virginia 23510, or deliver them to the 7th floor at the same address between 8 a.m. and 3 p.m., Monday through Friday, except Federal holidays. The Port Operations Department of Coast Guard Marine Safety Office Hampton Roads maintains the public docket for this rulemaking. Comments and materials received from the public as well as documents indicated in this preamble as being available in the docket, will become part of this docket and will be available for inspection or copying at Coast Guard Marine Safety Office Hampton Roads between 8 a.m. and 3 p.m., Monday through Friday, except Federal holidays.

FOR FURTHER INFORMATION CONTACT: Lieutenant Commander S. Moody or Lieutenant K. Sniffen, Port Operations Department, Coast Guard Marine Safety Office Hampton Roads, (757) 441-6442.

SUPPLEMENTARY INFORMATION:

Regulatory Information

On September 30, 1999, we published an advanced notice of proposed rulemaking; request for comments (ANPRM) entitled OPSAIL 2000, Port of Hampton Roads, VA in the Federal Register (64 FR 52723). We received no letters commenting on our anticipated rulemaking. No public hearing was requested and none was held.

Request for Comments

The Coast Guard encourages you to participate in this rulemaking by submitting comments and related material. If you do so, please include your name and address, identify the docket number for this rulemaking (CGD05-99-068), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Coast Guard Marine Safety Office Hampton Roads, at the address under ADDRESSES, explaining why one would be beneficial. If we determine that one would aid this rulemaking, we will hold one at a time and place announced by a later notice in the Federal Register.

Background and Purpose

OPSAIL 2000 Norfolk is sponsoring OPSAIL 2000 in the Port of Hampton Roads. Planned events in the Port of Hampton Roads include: the arrival of more than 200 Tall Ships and other vessels at Lynnhaven Anchorage on June 15 and 16, 2000; a Parade of Sail of approximately 200 Tall Ships and other vessels from that anchorage to Town Point Park, downtown Norfolk, on June 16, 2000; three fireworks displays adjacent to the Norfolk and Portsmouth seawalls on June 16, 17, and 18, 2000; and the scheduled departure of the majority of vessels on June 20, 2000. This event will substitute for the annual Harborfest, normally held on the first Friday, Saturday, and Sunday of June.

The Coast Guard anticipates 10,000 spectator craft for these events. Operators should expect significant vessel congestion along the parade route and viewing areas for the fireworks displays.

The purpose of these regulations is to promote maritime safety and protect participants and the boating public in the Port of Hampton Roads immediately prior to, during, and after the scheduled events. The regulations will establish a clear parade route for the participating vessels, establish no wake zones along the parade route and in certain anchorage areas, modify existing anchorage regulations for the benefit of participants and spectators, and provide a safety buffer around the planned fireworks displays. The regulations will impact the movement of all vessels operating in the specified areas of the Port.

It may be necessary for the Coast Guard to establish safety or security zones in addition to these regulations to safeguard dignitaries and certain vessels participating in the event. If the Coast Guard deems it necessary to establish such zones at a later date, the details of those zones will be announced separately via the Federal Register, Local Notice to Mariners, Safety Voice Broadcasts, and any other means available.

All vessel operators and passengers are reminded that vessels carrying passengers for hire or that have been chartered and are carrying passengers may have to comply with certain additional rules and regulations beyond the safety equipment requirements for all pleasure craft. When a vessel is not being used exclusively for pleasure, but rather is engaged in carrying passengers for hire or has been chartered and is carrying the requisite number of passengers, the vessel operator must possess an appropriate license and the vessel may be subject to inspection. The definition of the term “passenger for hire” is found in 46 U.S.C. 2101(21a). In general, it means any passenger who has contributed any consideration (monetary or otherwise) either directly or indirectly for carriage onboard the vessel. The definition of the term “passenger” is found in 46 U.S.C. 2101(21). It varies depending on the type of vessel, but generally means individuals carried aboard vessels except for certain specified individuals engaged in the operation of the vessel or the business of the owner/charterer. The law provides for substantial penalties for any violation of applicable license and inspection requirements. If you have any questions concerning the application of the above law to your particular case, you should contact the Coast Guard at the address listed in ADDRESSES for additional information.

Vessel operators are reminded they must have sufficient facilities on board their vessels to retain all garbage and untreated sewage. Discharge of either into any waters of the United States is strictly forbidden. Violators may be assessed civil penalties up to $25,000 or face criminal prosecution.

Vessel operators are also reminded that Norfolk Naval Base will be strictly enforcing the existing restricted area defined at 33 CFR 334.300 during all of the OPSAIL 2000 events.

We recommend that vessel operators visiting the Port of Hampton Roads for this event obtain up to date editions of the following charts of the area: Nos. 12222, 12245, 12253, and 12254 to avoid anchoring within a charted cable or pipeline area.

With the arrival of OPSAIL 2000 and spectator vessels in the Port of Hampton Roads for this event, it will be necessary to curtail normal port operations to some extent. Interference will be kept to the minimum considered necessary to ensure the safety of life on the navigable waters immediately before, during, and after the scheduled events.

Discussion of Proposed Rule

The vessels involved in the Parade of Sail are scheduled to enter Thimble Shoal Channel at 7:30 a.m. on June 16, 2000. The lead vessel is scheduled to be abreast of Old Point Comfort Light at 9:30 a.m. The parade route includes Norfolk Harbor Entrance Reach, Norfolk Harbor Reach, Craney Island Reach, Lambert Bend, Port Norfolk Reach and Town Point Reach. The larger OPSAIL 2000 vessels will be berthed in the vicinity of the respective downtown Norfolk and Portsmouth waterfronts as they complete the parade route. The smaller OPSAIL 2000 vessels will proceed past Town Point Park to the vicinity of the Norfolk Naval Shipyard to avoid interfering with the docking of the larger vessels. Once all the larger vessels have been docked, the smaller vessels will proceed to their assigned berths.

The safety of parade participants and spectators will require that spectator craft be kept at a safe distance from the parade route during these vessel movements. The Coast Guard proposes closing the parade route to all vessels not involved in the Parade of Sail for the duration of the Parade of Sail on June 16, 2000. The parade route has been segmented in this rulemaking to facilitate the earliest possible reopening of the waterway once all OPSAIL 2000 vessels have cleared a particular segment of the route, but portions of the Elizabeth River will remain closed to all traffic until all of the OPSAIL 2000 vessels are safely moored at their assigned berths.

In addition to closing the parade route, we propose to establish Vessel Traffic Control Points to control the flow of spectator vessel traffic immediately prior to and during the parade. Vessel Traffic Control Points will be established at: the Elizabeth River, Western Branch along a line drawn across the Elizabeth River, Western Branch, at the West Norfolk Bridge; the Elizabeth River, Eastern Branch along a line drawn across the Elizabeth River, Eastern Branch, at the Berkley Bridge; the Elizabeth River, Southern Branch along a line drawn across the Elizabeth River, Southern Branch, at the Jordan Bridge; the James River along a line drawn across the James River at the Monitor-Merrimac Bridge/ Tunnel; at Old Point Comfort along a line drawn from Old Point Comfort Light (37°00′10″ N, 076°18′40′ W) to Fort Wool Light (36°59′20″ N, 076°18′20″ W); at Craney Island along a line drawn from Elizabeth River Channel Buoy 20 to a point of land at 36°53′32″ N, 076°20′19″ W; at Lamberts Point along a line drawn from Elizabeth River Channel Lighted Buoy 29 to a point of land at 36°52′20″ N, 076°19′32″ W; at Hospital Point along a line drawn from the Southeast corner of Hospital Point (36°50′44″ N, 076°18′14″ W) to Elizabeth River Channel Lighted Buoy 36; and at the Portsmouth Seawall along a line drawn due East across the Elizabeth River, from the Northeast corner of the Portsmouth Seawall (36°50′26″ N, 076°17′45″ W). The Captain of the Port will restrict vessel traffic flow and maintain safe ingress and egress to areas adjacent to the parade route.

The Coast Guard also intends to temporarily modify the existing anchorage regulations found at 33 CFR § 110.168 to accommodate OPSAIL 2000 and spectator vessels. Vessels will not be allowed to anchor in Anchorage E, Anchorage P, or Berths F-1 and F-2 of Anchorage F without permission of the Captain of the Port, and Anchorage K will be closed to all commercial vessels except high capacity passenger vessels.

The regulations for the Regulated Navigation Area defined in 33 CFR 165.501 will also be temporarily modified for the OPSAIL 2000 event. Non-commercial vessels, regardless of length, will be allowed to anchor outside the defined anchorage areas; the draft limitation for vessels using Thimble Shoal Channel will be waived for OPSAIL 2000 vessels; and no wake zones will be placed in effect in the areas where OPSAIL 2000 vessels are anchored prior to the start of the parade and along the parade route.

In order to provide for the safety of vessels transiting the area or observing the three fireworks displays, the Coast Guard intends to implement the regulations found at 33 CFR 100.501 from 9:15 p.m. to 10:15 p.m. on June 16, 17, and 18, 2000.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10e of the regulatory policies and procedures of DOT is unnecessary.

The primary impact of these regulations will be on vessels wishing to transit the affected waterways during the Parade of Sail. Although these regulations prevent traffic from transiting a portion of the Chesapeake Bay and Elizabeth River during this event, that restriction is limited to under twelve hours in duration, affects only a limited area that is totally contained within an already established regulated navigation area, and will be well publicized to allow mariners to make alternative plans for transiting the affected area. Moreover, the magnitude of the event itself will severely hamper or prevent transit of the waterway, even absent these regulations designed to ensure it is conducted in a safe and orderly fashion.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to operate or anchor in portions of Chesapeake Bay and the Elizabeth River from 7 a.m. June 15, 2000 until 8 p.m. June 16, 2000. The regulations would not have a significant impact on a substantial number of small entities for the following reasons: the restrictions are limited in duration, affect only limited areas that are totally contained within an already established regulated navigation area, and will be well publicized to allow mariners to make alternative plans for transiting the affected areas. Moreover, the magnitude of the event itself will severely hamper or prevent transit of the waterway, even absent these regulations designed to ensure it is conducted in a safe and orderly fashion.

If you think that your business, organization or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact the Port Operations Department of Coast Guard Marine Safety Office Hampton Roads, at the address under ADDRESSES.

Collection of Information

This proposed rule would call for no new collection of information under the Paperwork Reduction Act of 1995 (44 U.S.C. 3501-3520.).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraphs (34) (f, g, and h), of Commandant Instruction M16475.1C, this proposed rule is categorically excluded from further environmental documentation. A “Categorical Exclusion Determination” will be available in the docket where indicated under ADDRESSES. By controlling vessel traffic during these events, this proposed rule is intended to minimize environmental impacts of increased vessel traffic during the transits of event vessels and fireworks displays.

List of Subjects

33 CFR Part 100

Marine safety, Navigation (water), Reporting and recordkeeping requirements, Waterways.

33 CFR Part 110

Anchorage grounds.

33 CFR Part 165

Harbors, Marine safety, Navigation (water), Reporting and recordkeeping requirements, Security measures, Waterways.

Regulation

For the reasons discussed in the preamble, the Coast Guard proposes to amend 33 CFR Parts 100, 110, and 165 as follows:

PART 100—[AMENDED]

1. The authority citation for part 100 continues to read as follows:

Authority: 33 U.S.C. 1233 through 1236; 49 CFR 1.46; 33 CFR 100.35.

2. Add temporary § 100.35T-05-068 to read as follows:

§ 100.35T-05-068 Special Local Regulations; OPSAIL 2000, Port of Hampton Roads, VA.

(a) Definitions. (1) Captain of the Port means the Commanding Officer of the Marine Safety Office Hampton Roads, Norfolk, VA or any Coast Guard commissioned, warrant, or petty officer who has been authorized by the Captain of the Port to act on his behalf.

(2) High Capacity Passenger Vessel includes any vessel greater than 65′ in length with a passenger capacity of 150 persons or greater.

(3) OPSAIL 2000 Vessels includes all vessels participating in Operation Sail 2000 under the auspices of the Marine Event Permit submitted for the Port of Hampton Roads and approved by Commander, Fifth Coast Guard District.

(4) Parade of Sail is the inbound procession of OPSAIL 2000 vessels as they navigate designated routes in the port of Hampton Roads on June 16, 2000.

(5) Spectator vessel includes any vessel, commercial or recreational, being used for pleasure or carrying passengers, that is in the Port of Hampton Roads to observe part or all of the events attendant to OPSAIL 2000.

(6) Vessel Traffic Control Point is a designated point which vessel traffic may not proceed past in either inbound or outbound direction without permission of the Captain of the Port.

(b) Vessel Traffic Control Points. The following Vessel Traffic Control Points are established (All coordinates use Datum: NAD 1983):

(1) Elizabeth River, Western Branch Along a line drawn across the Elizabeth River, Western Branch, at the West Norfolk Bridge.

(2) Elizabeth River, Eastern Branch Along a line drawn across the Elizabeth River, Eastern Branch, at the Berkley Bridge.

(3) Elizabeth River, Southern Branch Along a line drawn across the Elizabeth River, Southern Branch, at the Jordan Bridge.

(4) James River Along a line drawn across the James River at the Monitor-Merrimac Bridge/Tunnel.

(5) Old Point Comfort Along a line drawn from Old Point Comfort Light (37°00′10″ N, 076°18′40″ W) to Fort Wool Light (36°59′20″ N, 076°18′20″ W).

(6) Craney Island Along a line drawn from Elizabeth River Channel Buoy 20 to a point of land at 36°53′33″ N, 076°22′32″ W.

(7) Lamberts Point Along a line drawn from Elizabeth River Channel Lighted Buoy 29 to a point of land at 36°52′20″ N, 076°19′32″ W.

(8) Hospital Point Along a line drawn from the Southeast corner of Hospital Point (36°50′44″ N, 076°18′14″ W) to Elizabeth River Channel Lighted Buoy 36.

(9) Portsmouth Seawall Along a line drawn due East across the Elizabeth River, from the Northeast corner of the Portsmouth Seawall (36°50′26″ N, 076°17′45″ W).

(c) Special Local Regulations. (1) No vessel may proceed past a Vessel Traffic Control Point unless authorized to do so by the Captain of the Port.

(2) The Coast Guard vessels enforcing this section can be contacted on VHF Marine Band Radio, channels 13 and 16. The Captain of the Port can be contacted at telephone number (757) 484-8192.

(3) The Captain of the Port will notify the public of changes in the status of these Vessel Traffic Control Points by Marine Safety Radio Broadcast on VHF Marine Band Radio, Channel 22 (157.1 MHz).

(d) Effective date. This section is applicable from 9 a.m. to 5 p.m. on June 16, 2000.

PART 110—[AMENDED]

3. The authority citation for part 110 continues to read as follows:

Authority: 33 U.S.C. 471, 1221 through 1236, 2030, 2035, and 2071; 49 CFR 1.46 and 33 CFR 1.05-1(g).

4. From 7 a.m., June 15, 2000 until 8 p.m., June 16, 2000 temporarily suspend § 110.168 (f)(4), (f)(5), (f)(8), and (f)(9) and temporarily add § 110.168 (f)(12) through (f)(16) to read as follows:

§ 110.168 Hampton Roads, Virginia, and adjacent waters.

* * * * *

(f) * * *

(12) Definitions as used in paragraphs (f)(13) through (16) of this section. (i) Captain of the Port means the Commanding Officer of the Marine Safety Office Hampton Roads, Norfolk, VA or any Coast Guard commissioned, warrant, or petty officer who has been authorized by the Captain of the Port to act on his behalf.

(ii) High Capacity Passenger Vessel includes any vessel greater than 65′ in length with a passenger capacity of 150 persons or greater

(iii) OPSAIL 2000 Vessels includes all vessels participating in Operation Sail 2000 under the auspices of the Marine Event Permit submitted for the Port of Hampton Roads and approved by Commander, Fifth Coast Guard District.

(iv) Parade of Sail is the inbound procession of OPSAIL 2000 vessels as they navigate designated routes in the port of Hampton Roads on June 16, 2000.

(v) Spectator vessel includes any vessel, commercial or recreational, being used for pleasure or carrying passengers, that is in the Port of Hampton Roads to observe part or all of the events attendant to OPSAIL 2000.

(vi) Vessel Traffic Control Point is a designated point which vessel traffic may not proceed past in either inbound or outbound direction without permission of the Captain of the Port.

(13) Anchorage E. No vessel may anchor in Anchorage E without permission of the Captain of the Port.

(14) Anchorage F. No vessel may anchor in Anchorage Berth F-1 or F-2 without permission of the Captain of the Port.

(15) Anchorage K. (i) Anchorage K is closed to all commercial vessels except as noted in paragraph (f)(15)(ii) of this section; (ii) Anchorage Berth K-1. Only high capacity passenger vessels may anchor in Anchorage Berth K-1.

(16) Anchorage P. No vessel may anchor in Anchorage P without permission of the Captain of the Port.

PART 165—[AMENDED]

5. The authority citation for part 165 continues to read as follows:

Authority: 33 U.S.C. 1231; 50 U.S.C. 191; 33 CFR 1.05-1(g), 6.04-1, 6.04-6, and 160.5; 49 CFR 1.46.

6. From June 15, 2000 through June 16, 2000, § 165.501 is temporarily amended by adding new paragraph (d)(1)(i)(C); adding a sentence at the end of paragraph (d)(4); and adding paragraph (d)(14) to read as follows:

§ 165.501 Chesapeake Bay entrance and Hampton Roads, Va. and adjacent waters—regulated navigation area.

* * * * *

(d) * * *

(1) * * *

(i) * * *

(C) Notwithstanding paragraph (d)(1) of this section, any non-commercial vessel, regardless of length, may anchor outside of the anchorages designated in § 110.168 of this chapter from 7 a.m. June 15, 2000 until 8 p.m. June 16, 2000.

* * * * *

(4) * * * The limitation in the first sentence of this paragraph (d)(4) is waived for OPSAIL 2000 vessels from 7 a.m. until 1 p.m. on June 16, 2000.

* * * * *

(14) No-Wake Zones for OPSAIL 2000. (i) From 7 a.m. June 15, 2000 until 8 p.m. June 16, 2000, vessels shall operate at the minimum speed required to maintain steerage and shall avoid creating a wake when operating in an area bounded by the northwestern limit of Anchorage A, thence along the western border of Anchorage A to the Virginia Beach shoreline, thence to the southern terminus of Trestle A, Chesapeake Bay Bridge Tunnel, thence to the northern terminus of Trestle A, Chesapeake Bay Bridge Tunnel, thence to the beginning.

(ii) From 7 a.m. June 15, 2000 until 8 p.m. June 16, 2000, vessels shall operate at the minimum speed required to maintain steerage and shall avoid creating a wake when operating in Anchorage E.

(iii) Spectator vessels observing the Parade of Sail shall operate at the minimum speed required to maintain steerage and shall avoid creating a wake from 9 a.m. June 16, 2000 until 5 p.m. June 16, 2000.

* * * * *

7. Add temporary § 165.T05-068 to read as follows:

§ 165.T05-068 Safety Zone; OPSAIL 2000, Port of Hampton Roads, VA.

(a) Location. The following areas are Safety Zones (All coordinates use Datum: NAD 1983):

(1) Parade of Sail Route—First Segment—Thimble Shoal Channel. All waters bounded by a line connecting Thimble Shoal Channel Lighted Bell Buoy 1TS, thence to Thimble Shoal Channel Lighted Gong Buoy 17, thence to Thimble Shoal Channel Lighted Bell Buoy 21, thence to Thimble Shoal Channel Lighted Buoy 22, thence to Thimble Shoal Channel Lighted Buoy 18, thence to Thimble Shoal Channel Lighted Buoy 2, thence to the beginning.

(2) Parade of Sail Route—Second Segment. All waters bounded by a line connecting Thimble Shoal Channel Lighted Bell Buoy 21, thence to Elizabeth River Channel Lighted Buoy 1ER, thence to Elizabeth River Channel Lighted Bell Buoy 3, thence to Elizabeth River Channel Lighted Gong Buoy 5, thence to Elizabeth River Channel Lighted Buoy 7, thence to Elizabeth River Channel Lighted Buoy 9, thence to Elizabeth River Channel Lighted Buoy 11, thence to Elizabeth River Channel Lighted Buoy 13, thence to Elizabeth River Channel Lighted Buoy 15, thence to Elizabeth River Channel Lighted Buoy 17, thence to Elizabeth River Channel Lighted Buoy 19, thence to Elizabeth River Channel Lighted Buoy 21, thence to Elizabeth River Channel Lighted Buoy 23, thence to Norfolk and Western Coal Pier Light (36° 52′ 48″ N, 076° 19′ 54″ W ), thence to Elizabeth River Channel Lighted Buoy 25, thence to Elizabeth River Channel Lighted Buoy 29, thence to Elizabeth River Channel Buoy 31, thence to Elizabeth River Channel Lighted Buoy 33, thence to Elizabeth River Channel Lighted Buoy 32, thence to Elizabeth River Channel Lighted Buoy 30, thence to Elizabeth River Obstruction Light (36° 52′ 06″ N, 076° 20′ 00″ W) thence to Elizabeth River Channel Lighted Buoy 20, thence to Elizabeth River Channel Lighted Buoy 18, thence to Elizabeth River Channel Lighted Buoy 14, thence to Elizabeth River Channel Lighted Buoy 12, thence to Elizabeth River Channel Lighted Bell Buoy 10, thence to Elizabeth River Articulated Light 8, thence to Newport News Channel Lighted Buoy 2, thence to Old Point Comfort Light (37°00′ 10″ N, 076°18′ 40″ W), thence to Thimble Shoal Channel Lighted Buoy 22, thence to the beginning.

(3) Parade of Sail Route—Third Segment. All waters bounded by a line connecting Elizabeth River Channel Lighted Buoy 33, thence to a point of land Northwest of Fort Norfolk, marked by a large pile of oyster shells at (36° 51′ 31″ N, 076° 18′ 37′ W), thence following the shoreline to the northern terminus of the Berkley Bridge, thence to the southern terminus of the Berkley Bridge, thence following the shoreline to the eastern terminus of the Jordan Bridge, thence to the western terminus of the Jordan Bridge, thence following the shoreline to the Northeast corner of the Portsmouth Seawall (36° 50′ 26″ N, 076° 17′ 45″ W), thence to Elizabeth River Channel Lighted Buoy 36, thence to Elizabeth River Channel Buoy 34, thence to Elizabeth River Channel Lighted Buoy 32, thence to the beginning.

(b) Effective dates. (1) Paragraph (a)(1) of this section is applicable from 7:30 a.m. until 1 p.m. on June 16, 2000.

(2) Paragraph (a)(2) of this section is applicable from 9 a.m. until 3 p.m. on June 16, 2000.

(3) Paragraph (a)(3) of this section is applicable from 9 a.m. to 5 p.m. on June 16, 2000.

(c) Definitions. (1) Captain of the Port means the Commanding Officer of the Marine Safety Office Hampton Roads, Norfolk, VA or any Coast Guard commissioned, warrant, or petty officer who has been authorized by the Captain of the Port to act on his behalf.

(2) High Capacity Passenger Vessel includes any vessel greater than 65′ in length with a passenger capacity of 150 persons or greater.

(3) OPSAIL 2000 Vessels includes all vessels participating in Operation Sail 2000 under the auspices of the Marine Event Permit submitted for the Port of Hampton Roads and approved by Commander, Fifth Coast Guard District.

(4) Parade of Sail is the inbound procession of OPSAIL 2000 vessels as they navigate designated routes in the port of Hampton Roads on June 16, 2000.

(5) Spectator vessel includes any vessel, commercial or recreational, being used for pleasure or carrying passengers, that is in the Port of Hampton Roads to observe part or all of the events attendant to OPSAIL 2000.

(6) Vessel Traffic Control Point is a designated point which vessel traffic may not proceed past in either inbound or outbound direction without permission of the Captain of the Port.

(d) Regulations. (1) All persons are required to comply with the general regulations governing safety zones in § 165.23.

(2) No person or vessel may enter or navigate within these regulated areas unless authorized to do so by the Captain of the Port. Any person or vessel authorized to enter the regulated area must operate in strict conformance with any directions given by the Captain of the Port and leave the regulated area immediately if the Captain of the Port so orders.

(3) The Coast Guard vessels enforcing this section can be contacted on VHF Marine Band Radio, channels 13 and 16. The Captain of the Port can be contacted at telephone number (757) 484-8192.

(4) The Captain of the Port will notify the public of changes in the status of this zone by Marine Safety Radio Broadcast on VHF Marine Band Radio, Channel 22 (157.1 MHz).

Dated: February 10, 2000.
Thomas E. Bernard,
Captain, U.S. Coast Guard, Acting Commander, Fifth Coast Guard District.

[FR Doc. 00-4375 Filed 2-28-00; 8:45 am]

BILLING CODE 4910-15-U